DEPARTMENT OF HEALTH AND HUMAN SERVICES

Centers for Disease Control and Prevention

[60Day-19-19ACI; Docket No. CDC-2019-0023]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Sealant Efficiency Assessment for Locals and States. This data will be collected from local school sealant programs to generate efficiency performance measures, which will allow CDC to identify feasible benchmarks and best practices contributing to school sealant program efficiency.

DATES: CDC must receive written comments on or before June 7, 2019.

ADDRESSES: You may submit comments, identified by Docket No. CDC-2019-0023 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Sealant Efficiency Assessment for States and Locals Data Collection—Existing collection in use without an OMB Control Number—National Center for Chronic Disease Prevention and Health Promotion, Centers for Disease Control and Prevention (CDC).

Background and Brief Description

By age 19, 67% of U.S. adolescents living in poverty have experienced tooth decay and 27% have at least one decayed tooth needing treatment. School sealant programs (SSP) provide dental sealants, which protect against 80% of cavities for two years, and continue to protect against 50% of cavities for up to four years.

Little is known about school sealant program delivery logistics, resource costs, or the quantity of resources used per unit of service or per averted cavity. The previously mentioned economic model on the cost-effectiveness of SSPs could find no recent studies on SSP cost in the U.S. and relied on the findings from four studies, all published before 2001. A systematic review of economic evaluations of SSPs conducted further found wide variation in reported cost per child, ranging from $33 to $163. Information on the cost and efficiency of SSPs could help these programs become more efficient and provide more services per dollar in their budget.

CDC requests information from states regarding children's cavity risk, one-year sealant retention rate, sealant program services delivered, and school sealant program cost and quantity of resources used at each school event. This data will allow CDC and states to monitor the performance and efficiency of their SSPs, which will improve and extend program delivery to more children.

At the beginning of each school year, SSPs electronically enter a list of schools they plan to serve (Add Schools), information about their program delivery logistics (Program Options), and per unit resource costs (Cost Options). Data from the previous funding period suggest that one SSP typically serves 20 schools. At each school event, SSPs enter information about resource use, children's risk for tooth decay, and delivered services (Add Event). Information collected at each school can be entered electronically onsite or collected on paper form, and entered electronically at a later date. At the end of the school year, SSPs enter administrative costs (e.g., office supplies, rent, computers) electronically, and within 9 to 15 months after first visiting the school, they enter information about sealant retention. Effectiveness of resin-based sealants is directly tied to retention, in that a retained sealant is 100% effective at preventing cavities. Because of this, many SSPs sample a few children for retention when they visit the school the next year to deliver services to new students.

CDC proposes to conduct a benchmarking analysis to identify the set of efficient SSPs and factors/practices associated with efficiency. Findings from the CDC benchmarking analyses will be submitted for publication in peer-reviewed journals and presented at the National Oral Health Conference. Findings will also be shared with the Association of State and Territorial Dental Directors (ASTDD), the oral health divisions in HRSA and CMS, and the National Institutes of Dental and Craniofacial Research. This information will inform entities considering implementing SSPs; assist local SSPs and state oral health departments to monitor efficiency and impact; identify best practices; and document if and how SSPs are a good investment of public health dollars.

CDC requests OMB clearance for three years. The total estimated annualized burden hours is 1,388. There are no costs to respondents other than their time.

Estimated Annualized Burden Hours
Type of respondents | Form name | Number of respondents | Number of responses per respondent | Average burden per response (in hours) | Total burden (in hours)
State Sealant Administrator | Add Program and Add User | 18 | 1 | 45/60 | 14
SSP Local Administrator | Add User and Add School | 162 | 1 | 43/60 | 116
| Program Options and Cost Options | 162 | 1 | 46/60 | 124
| Add Event | 162 | 20 | 21/60 | 1,134
Total |  |  |  |  | 1,388

Jeffrey M. Zirger,
Lead, Information Collection Review Office, Office of Scientific Integrity, Office of Science, Centers for Disease Control and Prevention.

[FR Doc. 2019-06816 Filed 4-5-19; 8:45 am]

BILLING CODE 4163-18-P